DEPARTMENT OF COMMERCE

International Trade Administration

[A-570-601]

Tapered Roller Bearings and Parts Thereof, Finished and Unfinished, From the People's Republic of China: Amended Final Results of 2001-2002 Administrative Review

AGENCY: Import Administration, International Trade Administration, Department of Commerce.

ACTION: Notice of Amended Final Results of 2000-2001 Administrative Review.

SUMMARY: On December 12, 2003, the Department of Commerce announced the final results of the administrative review of the antidumping duty order on tapered roller bearings and parts thereof, finished and unfinished, from the People's Republic of China for the period June 1, 2001, through May 31, 2002. These final results were published in the Federal Register on December 18, 2003.

On December 15, 2003, Yantai Timken Company Limited filed an allegation of ministerial error. Based on this allegation, we made changes to the margin calculation of Yantai Timken Company Limited. The final weighted-average dumping margin for this company is listed below in the section entitled “Amended Final Results.”

EFFECTIVE DATE: December 31, 2003.

FOR FURTHER INFORMATION CONTACT: S. Anthony Grasso or Andrew Smith, Group 1, Office I, Antidumping/Countervailing Duty Enforcement, Import Administration, International Trade Administration, U.S. Department of Commerce, 14th Street and Constitution Avenue NW, Washington, DC 20230; telephone (202) 482-3853 and (202) 482-1276, respectively.

SUPPLEMENTARY INFORMATION:

Background

On December 18, 2003, the Department of Commerce (“the Department”) published the final results in this administrative review. See Tapered Roller Bearings and Parts Thereof, Finished and Unfinished, from the People's Republic of China: Final Results of 2001-2002 Administrative Review and Partial Rescission of Review, 68 FR 70488 (December 18, 2003) (“Final Results”). The period of review is June 1, 2001, through May 31, 2002.

On December 15, 2003, we received a ministerial error allegation, timely filed pursuant to 19 CFR 351.224(c)(2), from Yantai Timken Company Limited (“Yantai Timken”) regarding the Department's final margin calculation. Yantai Timken requested that we correct the error and publish a notice of amended final results in the Federal Register, pursuant to 19 CFR 351.224(e).

Scope of Review

Merchandise covered by this review includes tapered roller bearings and parts thereof, finished and unfinished, from the People's Republic of China (“PRC”); flange, take up cartridge, and hanger units incorporating tapered roller bearings; and tapered roller housings (except pillow blocks) incorporating tapered rollers, with or without spindles, whether or not for automotive use. This merchandise is currently classifiable under the Harmonized Tariff Schedule of the United States (“HTSUS”) item numbers 8482.20.00, 8482.91.00.50, 8482.99.30, 8483.20.40, 8483.20.80, 8483.30.80, 8483.90.20, 8483.90.30, 8483.90.80, 8708.99.80.15, and 8708.99.80.80. Although the HTSUS item numbers are provided for convenience and customs purposes, the written description of the scope of the order and this review is dispositive.

Amended Final Results

In its ministerial allegation, Yantai Timken claimed that the Department failed to multiply the surrogate value per kilogram used for the finished product purchased by Yantai Timken by the weight of that finished product to calculate a part-specific value for the Final Results. After analyzing the record of this review, we have determined, in accordance with section 771(h) of the Tariff Act of 1930, as amended, (“the Act”) and 19 CFR 351.224, that we made a ministerial error in the margin calculation for Yantai Timken. For a detailed discussion of the ministerial error allegation and the Department's analysis, see December 22, 2003 memorandum from team to Susan H. Kuhbach entitled Ministerial Error Allegation, which is on file in the Department's Central Records Unit located in the main Commerce building in Room B-099.

In the course of our analysis, we also noted that in the “Final Results of Review” section of the Final Results, we inadvertently stated that “{w}e determine that the following dumping margins exist for the period June 1, 2000, through May 31, 2001.” See Final Results, 68 FR 70488, 70489. This should have read: “we determine that the following dumping margins exist for the period June 1, 2001, through May 31, 2002.”

Therefore, in accordance with 19 CFR 351.224(e) we are amending the Final Results of tapered roller bearings from the PRC to reflect the corrections noted above. Based on these revisions, we determine that the following weighted-average dumping margins exist for the period June 1, 2001, through May 31, 2002:

Exporter/manufacturer | Revised weighted-average margin percentage
Yantai Timken­Company, Ltd. | 0.00
Peer Bearing Company-Changshan | 0.00
PRC-wide rate | 33.18

Cash Deposit Rates

The following deposit rates will be effective upon publication of these final results for all shipments of tapered roller bearings and parts thereof, finished and unfinished, from the PRC entered, or withdrawn from warehouse, for consumption on or after the publication date of this notice, as provided for by section 751(a)(1) of the Act: (1) for Yantai Timken Company Limited and Peer Bearing Company-Changshan, which have separate rates, no antidumping duty deposit will be required; (2) for a company previously found to be entitled to a separate rate and for which no review was requested, the cash deposit rate will be the rate established in the most recent review of that company; (3) for all other PRC exporters the case deposit rate will be the PRC-country wide rate, which is 33.18 percent; and (4) for non-PRC exporters of subject merchandise from the PRC, the cash deposit rate will be the rate applicable to the PRC supplier of that exporter. These deposit rates shall remain in effect until publication of the final results of the next administrative review.

These cash deposit requirements, when imposed, shall remain in effect until publication of the final results of the next administrative review.

Assessment Rates

The Department will issue appropriate assessment instructions directly to the Bureau of Customs and Border Protection within 15 days of publication of these amended final results of review.

This determination is issued and published in accordance with sections 751(a)(1) and 777(i) of the Act.

Dated: December 23, 2003.
Holly A. Kuga,
Acting Assistant Secretary for Import Administration.

[FR Doc. 03-32227 Filed 12-30-03; 8:45 am]

BILLING CODE 3510-DS-S